DEPARTMENT OF LABOR

Employment and Training Administration

[TA-W-62,833; TA-W-62,833A]

Megtec Systems, Inc. a Subsidiary of Sequa Corporation Depere, WI; Including an Employee in Support of Megtec Systems, Inc. a Subsidiary of Sequa Corporation, Depere, WI Working out of Fayetteville, GA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on May 16, 2008, applicable to workers of Megtec Systems, Inc., a subsidiary of Sequa Corporation, DePere, Wisconsin. The notice was published in the Federal Register on May 29, 2008 (73 FR 30977).

At the request of the State agency, the Department reviewed the certification for workers of the subject firm.

New information shows that a worker separation has occurred involving an employee (Mr. Eugene Barry Lewis) working out of Fayetteville, Georgia, in support of and under the control of Megtec Systems, Inc., a subsidiary of Sequa Corporation, in DePere, Wisconsin.

Based on these findings, the Department is amending this certification to include an employee in support of the DePere, Wisconsin location of the subject firm working out of Fayetteville, Georgia.

The intent of the Department's certification is to include all workers of Megtec Systems, Inc., a subsidiary of Sequa Corporation, DePere, Wisconsin who were adversely affected by increased imports of air flotation drying, pollution control and paper handling equipment.

The amended notice applicable to TA-W-62,833 is hereby issued as follows:

“All workers of Megtec Systems, Inc., a subsidiary of Sequa Corporation, DePere, Wisconsin (TA-W-62,833), including an employee in support of Megtec Systems, Inc., a subsidiary of Sequa Corporation, DePere, Wisconsin, working out of Fayetteville, Georgia (TA-W-62,833A), who became totally or partially separated from employment on or after February 11, 2007, through May 16, 2010, are eligible to apply for adjustment assistance under Section 223 of the Trade Act of 1974, and are also eligible to apply for alternative trade adjustment assistance under Section 246 of the Trade Act of 1974.”

Signed at Washington, DC, this 26th day of June 2008.
Linda G. Poole
Certifying Officer, Division of Trade Adjustment Assistance.

[FR Doc. E8-15860 Filed 7-11-08; 8:45 am]

BILLING CODE 4510-FN-P